DEPARTMENT OF HOMELAND SECURITY

Coast Guard

33 CFR Part 100

[Docket Number USCG-2019-0223]

RIN 1625-AA08

Special Local Regulation; Zimovia Strait, Wrangell, AK

AGENCY: Coast Guard, DHS.

ACTION: Final rule.

SUMMARY: The Coast Guard is establishing a permanent special local regulation to enable vessel movement restrictions for certain waters of the Zimovia Strait. This action is necessary to provide for the safety of life on these navigable waters near Wrangell Harbor during power boat races on July 4, 2019 and every subsequent year on July 4. This rule prohibits persons and vessels from transiting through, mooring, or anchoring within the special local regulation race area unless authorized by the Captain of the Port Southeast Alaska or a designated representative.

DATES: This final rule is effective without actual notice on July 5, 2019. For the purposes of enforcement, actual notice will be used from July 1, 2019 through July 5, 2019.

ADDRESSES: To view documents mentioned in this preamble as being available in this docket, go to https://www.regulations.gov, type USCG-2019-0223 in the “SEARCH” box and click “SEARCH.” Click on Open Docket Folder on the line associated with this rule.

FOR FURTHER INFORMATION CONTACT: If you have questions on this rule, call or email LT Jesse Collins, Sector Juneau, Waterways Management Division, Coast Guard: telephone 907-463-2846, email D17-SMB-Sector-Juneau-WWM@uscg.mil.

SUPPLEMENTARY INFORMATION:

I. Table of Abbreviations

CFR Code of Federal Regulations

COTP Captain of the Port Southeast Alaska

DHS Department of Homeland Security

FR Federal Register

NPRM Notice of proposed rulemaking

§ Section

U.S.C. United States Code

II. Background Information and Regulatory History

On January 16, 2019, the Wrangell Chamber of Commerce notified the Coast Guard that it will be conducting high speed boat races from 11 a.m. to 7 p.m. on July 4, 2019, as part of the Wrangell 4th of July Celebration. The boat races will be taking place approximately 100 yards off of the city dock in Wrangell, AK. The Captain of the Port Southeast Alaska (COTP) has determined that potential hazards associated with the high speed races is a safety concern for anyone within the zone.

In response, on May 28, 2019, the Coast Guard published a notice of proposed rulemaking (NPRM) titled Special Local Regulation; Zimovia Strait, Wrangell, AK (84 FR 24732). There we stated why we issued the NPRM, and invited comments on our proposed regulatory action related to this annual boating event. During the comment period that ended June 28, 2019, we received no comments.

Under 5 U.S.C. 553(d)(3), the Coast Guard finds that good cause exists for making this rule effective less than 30 days after publication in the Federal Register. Delaying the effective date of this rule would be impracticable because it would inhibit the Coast Guard's ability to protect participants, mariners and vessels from the hazards associated with this event.

III. Purpose and Legal Authority

The purpose of this rule is to ensure the safety of vessels and the navigable waters within a race area before, during, and after the scheduled event. The Coast Guard is issuing this rule under the authority in 46 U.S.C. 70034.

IV. Discussion of Comments, Changes, and the Final Rule

As stated above, we received no comments on our NPRM published on May 29, 2019 (84 FR 24732). There are no changes in the regulatory text of this rule from the proposed rule in the NPRM.

The COTP is establishing a special local regulation from 11 a.m. to 7 p.m. on July 4, 2019, and every subsequent year on July 4th. The special local regulation will cover all navigable waters within the race area to include Wrangell Harbor entrance and an area extending Northwest along the shoreline approximately 1,000 yards and Southwest approximately 500 yards. No vessel or person is permitted to enter the special local regulation area without obtaining permission from the COTP or a designated representative. The regulatory text for this rule appears at the end of this document.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771. This regulatory action determination is based on the size, location, duration, and time-of-day of the special local regulation. Vessel traffic will be able to safely transit around the race area, which will impact a small designated area in Wrangell Harbor for 8 hours. Moreover, the Coast Guard will issue a Broadcast Notice to Mariners via VHF-FM marine channel 16 about the race area, and the rule will allow vessels to seek permission to enter or transit through the race area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the special local regulation area may be small entities, for the reasons stated in section IV.A above, this rule will not have a significant economic impact on any vessel owner or operator.

Under section 213(a) of the Small Business Regulatory Enforcement Fairness Act of 1996 (Pub. L. 104-121), we want to assist small entities in understanding this rule. If the rule affects your small business, organization, or governmental jurisdiction and you have questions concerning its provisions or options for compliance, please contact the person listed in the FOR FURTHER INFORMATION CONTACT section. The Coast Guard will not retaliate against small entities that question or complain about this rule or any policy or action of the Coast Guard.

C. Collection of Information

This rule does not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule does not result in such an expenditure, we do discuss the effects of this rule elsewhere in this preamble.

F. Environment

We have analyzed this rule under Department of Homeland Security Directive 023-01 and Environmental Planning COMDTINST 5090.1 (series), which guide the Coast Guard in complying with the National Environmental Policy Act of 1969 (42 U.S.C. 4321-4370f), and have made the determination that this action is one of a category of actions that do not individually or cumulatively have a significant effect on the human environment. This rule involves a special local regulation lasting eight (8) hours on one day a year that prohibits entry or transit through the area without obtaining permission from the COTP or a designated representative. It is categorically excluded from further review under paragraph L61in Table 3-1 of U.S. Coast Guard Environmental Planning Implementing Procedures 5090.1. A memorandum for the record for categorically excluded actions supporting this determination is available in the docket where indicated under ADDRESSES.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.1701 to read as follows:

§ 100.1701 Special Local Regulation; Wrangell 4th of July Celebration Boat Races, Wrangell, AK.

(a) Regulated area. The following area is specified as a race area: All waters of Zimovia Straits, Wrangell, AK, approximately 1,000 yards to the Northwest and 500 yards to the Southwest of Wrangell Harbor entrance bounded by the following points: 56°28.077 N, 132°23.074 W, 56°28.440 N, 132°23.685 W, 56°28.277 N, 132°24.020 W, and 56°27.910 N, 132°23.400 W.

(b) Regulations. In accordance with the general regulations in this part, the regulated area shall be closed immediately prior to, during and immediately after the event to all persons and vessels not participating in the event and authorized by the event sponsor.

(c) Authorization. All persons or vessels who desire to enter the designated area created in this section while it is enforced must obtain permission from the on-scene patrol craft on VHF Ch 9.

(d) Enforcement period. This section will be enforced from 11 a.m. to 7 p.m. on July 4, each year unless otherwise specified in the Seventeenth District Local Notice to Mariners.

Dated: July 1, 2019.
Matthew T. Bell, Jr.,
Commander, RADM, Seventeenth Coast Guard District, U.S. Coast Guard.

[FR Doc. 2019-14417 Filed 7-3-19; 8:45 am]

BILLING CODE 9110-04-P